FEDERAL ELECTION COMMISSION

[Notice 2023-14]

Request for Public Comment on Improvements To Report Filing Processes and Website Usability

AGENCY: Federal Election Commission (“Commission”).

ACTION: Notification of request for public comment.

SUMMARY: The Commission seeks public comment on ways to improve its report filing processes and public-facing website.

DATES: Comments must be submitted on or before November 13, 2023.

ADDRESSES: All comments must be in writing. Commenters may submit comments by email to publiccomment2023-14@fec.gov.

All commenters must provide, at a minimum, their first name, last name, city, and state. All properly submitted comments, including attachments, will become part of the public record, and the Commission will make comments available for public viewing on the Commission's website and in the Commission's Public Records Office. Accordingly, commenters should not provide in their comments any information that they do not wish to make public, such as a home street address, date of birth, phone number, social security number, or driver's license number, or any information that is restricted from disclosure, such as trade secrets or commercial or financial information that is privileged or confidential.

FOR FURTHER INFORMATION CONTACT: Robert M. Knop, Assistant General Counsel, or Evan R. Christopher, Attorney, 1050 First Street NE, Washington, DC 20463, (202) 694-1650 or (800) 424-9530.

SUPPLEMENTARY INFORMATION: The Commission administers the Federal Election Campaign Act, 52 U.S.C. 30101-45, in relevant part, through a review of disclosure reports that are filed with the Commission. Political committees must file periodic reports, while others must file only upon the occurrence of specific activity, such as the making of independent expenditures in an aggregate amount or value in excess of $250 during a calendar year. See 52 U.S.C. 30104(a), (c). Some political committees and other regulated persons must file reports electronically, while others may file electronically or in paper form. See 11 CFR 104.18.

The Commission processes the information it receives from both electronic and paper filings, and digitally provides the information to the public on its website with search and filter functions. See 52 U.S.C. 30111(a)(4). In addition, the Commission's website contains legal resources for the public, including databases of concluded enforcement matters, advisory opinions, statutes and legislative history, regulations and related rulemaking materials, and documents from court cases. The Commission also provides campaign guides and other explanatory materials designed for non-lawyers, including candidates, treasurers, journalists, and members of the general public.

The Commission periodically reviews its programs to ensure it is fulfilling its mission of providing transparency to the campaign finance system. As part of that mission, not only does the Commission strive to provide to the public data in an easily usable format, but also strives to streamline the report filing process for filers. The purpose of this Notice is to inform the public that the Commission is examining its existing policies and procedures regarding the filing of reports with the agency and to provide the public with an opportunity to identify any issues or concerns with the report filing process, as well as potential solutions to those concerns. The Commission also seeks public comment on how to improve its website, including the organization, substance, and ease of use of the information on the website. The Commission will use the comments received to help determine whether to change its policies or processes, and, if so, how.

The Commission welcomes comments on all aspects of report filing. For example, one filer expressed frustration that electronic Form 99 (Miscellaneous Electronic Submission to the FEC) has a character limit, while another filer criticized the inability of the Commission's electronic filing system to accept an Excel spreadsheet. The Commission is also aware that filers have encountered software issues, both with FECFile and third-party filing software. While the Commission has deployed significant resources towards a multi-year project to develop a more user-friendly report-filing software, the Commission is seeking public comment concerning what can be accomplished immediately to improve the report-filing process.

In addition, the Commission seeks public comment on how to improve the Commission's website. Public comments can address any aspect of the website, including how the website displays campaign finance data, the organization of the website, search functions for legal research, or the provision of campaign guides. For example, how can the Commission make campaign finance data more accessible? Can the Commission add filters, searches, or features that would make the data more useful for the public? How can the Commission improve the website's organization or search functions for legal research? Do the campaign guides adequately educate non-lawyer members of the public about campaign finance rules?

The Commission is particularly interested in hearing from members of the public who regularly file reports or use the Commission's website, including political committees, candidates, non-profit organizations, journalists, and law enforcement.

On behalf of the Commission,
Dara Lindenbaum,
Chair, Federal Election Commission.

[FR Doc. 2023-19726 Filed 9-12-23; 8:45 am]

BILLING CODE 6715-01-P